DEPARTMENT OF ENERGY

[OE Docket No. PP- 481-2]

Application To Amend Presidential Permit; CHPE LLC

AGENCY: Office of Electricity, Department of Energy.

ACTION: Notice of application.

SUMMARY: CHPE LLC (the Applicant) has filed an application to amend Presidential Permit No. PP-481-1. CHPE LLC is requesting the amendment to clarify the maximum electric transmission capacity of the previously permitted facilities.

DATES: Comments, protests, or motions to intervene must be submitted on or before December 22, 2021.

ADDRESSES: Comments or motions to intervene should be addressed to Christopher Lawrence, Christopher.Lawrence@hq.doe.gov.

FOR FURTHER INFORMATION CONTACT: Christopher Lawrence (Program Office) at (202) 586-5260 or by email to Christopher.Lawrence@hq.doe.gov, or Christopher Drake (Attorney-Adviser) at (202) 586-2919 or by email to Christopher.Drake@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On November 24, 2021, CHPE LLC filed an application with the Office of Electricity of the Department of Energy (DOE), as required by regulations at 10 CFR 205.320 et seq., requesting that DOE amend Presidential Permit No. PP-481-1 to clarify the maximum electric transmission capacity of the previously permitted facilities.

On October 6, 2014, DOE issued Presidential Permit No. PP-362, authorizing Champlain Hudson Power Express, Inc. (CHPEI) to construct, operate, maintain, and connect the Champlain Hudson Power Express Project (Project). As described in PP-362, the Project is a 1,000-megawatt (MW), high-voltage direct current (HVDC), underground and underwater merchant transmission system that will cross the United States-Canada international border underwater near the Town of Champlain, New York, extend approximately 336 miles south through New York State, and interconnect to facilities located in Queens County, New York, owned by the Consolidated Edison Company of New York. The aquatic segments of the transmission line will primarily be buried in sediments of Lake Champlain and the Hudson, Harlem, and East rivers. The terrestrial portions of the transmission line will primarily be buried within existing road and railroad rights-of-way (ROW). On July 21, 2020, DOE issued Presidential Permit PP-481 transferring the facilities authorized in PP-362 to CHPE LLC at the request of CHPEI and CHPE LLC.

On April 30, 2021, DOE issued Presidential Permit No. PP-481-1, amending CHPE LLC's permit to incorporate proposed revisions to the Project route and authorizing the increase in the Project's capacity from 1,000 MW to 1,250 MW.

In its Supplemental Request for authorization to increase the Project's capacity from 1,000 MW to 1,250 MW in PP-481-1, CHPE LLC noted that it had “submitted an application request (NYISO Queue Position #887) for an additional 250 MW injection at the Point of Interconnection at the New York Power Authority's Astoria Annex 345 kV substation.” The New York Independent System Operator (NYISO) evaluated the request via an “Interconnection System Reliability Impact Study for the NYISO Q887: CH Uprate Project” (Interconnection Study) and provided the Interconnection Study to DOE. To gauge the reliability impact of the additional 250 MW injection at the Astoria Annex Substation, the Interconnection Study modeled 1,298 MW of Project withdrawal at the Hertel Substation in Canada to account for expected transmission line losses. In other words, an assumption in the Interconnection Study was that the transmission rate at the U.S.-Canada border would have to be 1,298 MW for 1,250 MW to be injected at the Astoria Annex Substation more than 300 miles away.

Article 3 of PP-481-1 states, in part, that the “maximum non-simultaneous rate of transmission over the permitted facilities shall not exceed 1,250 MW.” On its face, this language limits the Project's authorized capacity such that the Project cannot transmit at a rate greater than 1,250 MW anywhere between the border crossing and the Astoria Annex Substation, and therefore is prohibited from withdrawing approximately 1,298 MW at the Hertel Substation in order to inject 1,250 MW at the Astoria Annex Substation. CHPE LLC requests that DOE amend the Presidential Permit to explicitly state that the Project is authorized to inject 1,250 MW at the point of interconnection at the Astoria Annex Substation. This amendment would account for anticipated line losses and is consistent with the reliability analysis conducted by NYISO. The requested capacity increase to allow 1,250 MW injection at the Astoria Annex Substation is the only requested amendment; no other changes to the permitted facilities as described or analyzed in PP-481-1 are contemplated.

Comments and other filings concerning this application should be clearly marked with OE Docket No. PP-481-2. Consideration of comments is limited to those addressing the subject of the proposed amendment; comments on any part of PP-481-1 will not be considered. Additional copies are to be provided directly to Mr. Donald Jessome, Chief Executive Officer, Transmission Developers Inc., Pieter Schuyler Building, 600 Broadway, Albany, New York 12207-2283, donald.jessome@transmissiondevelopers.com, and Jay Ryan, Baker Botts LLP, 700 K Street NW, Washington, DC 20001, jay.ryan@bakerbotts.com.

Before a Presidential permit may be issued or amended, DOE must determine that the proposed action is in the public interest. In making that determination, DOE will consider the environmental impacts of the proposed action (i.e., granting the Presidential permit or amendment, with any conditions and limitations, or denying the permit), determine the proposed project's impact on electric reliability by ascertaining whether the proposed project would adversely affect the operation of the U.S. electric power supply system under normal and contingency conditions, and weigh any other factors that DOE may also consider relevant to the public interest. DOE also must obtain the favorable recommendation of the Secretary of State and the Secretary of Defense before taking final action on a Presidential permit application.

This application may be reviewed or downloaded electronically at https://www.energy.gov/oe/pending-applications.

Signed in Washington, DC, on December 2, 2021.
Christopher Lawrence,
Management and Program Analyst, Electricity Delivery Division, Office of Electricity.

[FR Doc. 2021-26475 Filed 12-6-21; 8:45 am]

BILLING CODE 6450-01-P